DEPARTMENT OF HOUSING AND URBAN DEVELOPMENT

[Docket No. FR-4410-FA-13]

Announcement of Funding Awards; Community Development Technical Assistance Programs; Fiscal Year 1999

AGENCY: Office of the Assistant Secretary for Community Planning and Development, HUD.

ACTION: Announcement of funding awards.

SUMMARY: In accordance with section 102(a)(4)(C) of the Department of Housing and Urban Development Reform Act of 1989, this notice announces the funding decisions made by the Department in a competition for funding under the Fiscal Year 1999 competition for Community Development Technical Assistance Programs. The notice contains the names of award winners and the amounts of the awards. Winners for Housing Opportunities for Persons with AIDS (HOPWA) technical assistance were announced on February 28, 2000 (65 FR 10531).

FOR FURTHER INFORMATION CONTACT: Penny McCormack, Department of Housing and Urban Development, Room 7216, 451 Seventh Street, SW, Washington, DC 20410, telephone (202) 708-3176, extension 4391. The TTY number for the hearing impaired is (202) 708-2565. (These are not toll-free numbers).

SUPPLEMENTARY INFORMATION. The purpose of the Community Development Technical Assistance competition is to select providers who can provide assistance in four Community Planning and Development programs. The purposes of technical assistance under these four programs are as follows: Community Development Block Grant (CDBG) Technical Assistance—to increase the effectiveness with which States and units of general local government plan, develop and administer their CDBG plans, including assistance to aid non-profits and other recipients of CDBG Funds; Community Housing Development Organizations (CHDOs) Technical Assistance—to promote the ability of CHDOs to maintain, rehabilitate and construct housing for low-income and moderate-income families; to facilitate the education of low-income homeowners and tenants; and to help women who reside in low-and moderate-income neighborhoods to rehabilitate and construct housing in the neighborhoods; HOME Technical Assistance—to help HOME participating jurisdictions design and implement HOME programs including, improving their ability to design and implement housing strategies and incorporate energy efficiency into affordable housing, facilitating the establishment and efficient operation of employer-assisted housing programs and land bank programs, and encouraging private lenders and for-profit developers of low-income housing to participate in public-private partnerships; Supportive Housing Program (SHP) Technical Assistance—to provide HUD-funded Supportive Housing program projects with technical assistance to promote the development of supportive housing and supportive services as part of a Continuum of Care approach, including innovative approaches to assist homeless persons in the transition from homelessness, and promoting the provision of supportive housing to homeless persons to enable them to live as independently as possible.

The assistance made available in this announcement is authorized by the following: CDBG Technical Assistance—Title I of the Housing and Community Development Act of 1974 (42 U.S. C. 5301-5320), 24 CFR 570.402; CHDO Technical Assistance—HOME Investment Partnerships Act (42 U.S.C. 12773), 24 CFR part 92; HOME Technical Assistance—HOME Investment Partnerships Act (42 U.S.C. 12781-12783), 24 CFR part 92; SHP Technical Assistance—42 U.S.C. 11381 et seq., 24 CFR 583.140. The competition was announced in a Notice of Funding Availability (NOFA) published in the Federal Register on February 26, 1999 (FR 14410-N-01). Applications were rated and selected for funding on the basis of selection criteria contained in that Notice.

A total of $21,681,998 was awarded to 80 providers nationwide. In accordance with section 102(a)(4)(C) of the Department of Housing and Urban Development Reform Act of 1989 (103 Stat. 1987. 42 U.S.C. 3545), the Department is publishing the awardees and amounts of the awards in Appendix A to this document.

Dated: May 1, 2000.
Cardell Cooper,
Assistant Secretary for Community Planning and Development.

Appendix A.—FY 1999 Funding Awards for the Community Development Technical Assistance Programs

Technical assistance awardee | CDBG TA | CHDO TA | HOME TA | SHP TA | Total
Asian Americans for Equality 111 Division Street, New York, NY 10002 | $121,720 | $344,003 | $221,568 |  | $687,291
Association of Community Living Agencies in Mental Health, 315A Washington Avenue Albany, NY 12206 | 20,000 |  | 60,000 | 60,020 | 140,020
Center for Community Change 1000 Wisconsin Avenue, NW, Washington, DC 20007 |  | 167,320 |  |  | 167,320
Center for Poverty Solutions 2521 N. Charles St., Baltimore, MD 21218 |  |  |  | 26,000 | 26,000
Center for Technical Assistance and Training (CTAT), 7500 Germantown Avenue, Suite 100, Philadelphia, PA 19119 |  | 71,526 | 51,800 |  | 123,326
Chicago Rehabilitation Network, 53 W. Jackson, Suite 742, Chicago, IL 60604 |  | 168,202 |  |  | 168,202
Coalition for Low Income Community Development (CLICD), 1118 Light Street, Suite B, Baltimore, MD 21229 | 43,750 |  |  |  | 43,750
Coalition on Homelessness and Housing in Ohio, 85 East Gay Street, Suite 603, Columbus, OH 43215 |  |  | 125,000 | 78,000 | 203,000
Coastal Enterprises, Inc., 36 Water St. P.O. Box 268, Wiscasset, ME 04578 |  | 88,344 |  |  | 88,344
Colorado Coalition for the Homeless, 2100 Broadway, Denver, CO 80205 |  | 90,200 |  |  | 90,200
Common Ground 110 Prefontaine Place South, Suite 504, Seattle, WA 98104 | 28,470 |  | 68,375 | 30,030 | 126,875
Community Development Training Institute, 50 Washington Square, Newport, RI 02840 | 30,000 |  |  |  | 30,000
Community Research and Development, 1300 Baxter St., Suite 269, Charlotte, NC 28204 |  | 76,260 |  |  | 76,260
Congress of National Black Churches, Inc., 1225 Eye Street, N.W., Suite 750, Washington, DC 20005 | 131,820 | 362,610 |  |  | 494,430
Connecticut Housing Coalition, 30 Jordan Lane, Wethersfield, CT 06109 | 40,000 |  | 102,900 |  | 142,900
Corporation for Supportive Housing, 50 Broadway, 17th Floor, New York, NY 10004 |  |  | 99,400 | 263,570 | 362,970
Creative Housing Solutions, Inc., P.O. Box 1022, Selah, WA 98942 | 18,980 |  | 15,570 |  | 34,550
Dennison Associates, Inc., 910 17th St. NW, Suite 404, Washington, DC 20006 | 36,700 |  |  |  | 36,700
Development Training Institute, Inc., 2510 St. Paul Street, Baltimore, MD 21218 | 106,588 | 2,183,486 | 1,091,570 |  | 3,381,644
Douglass-Cherokee Economic Authority, Inc., 534 E. First North Street, P.O. Box 1218, Morristown, TN 37814 | 40,000 | 112,590 | 57,800 | 55,000 | 265,390
Education Development Center, Inc., 55 Chapel Street, Newton, MA 02458 |  |  |  | 60,339 | 60,339
Enterprise Foundation, 10227 Wincopin Circle, Suite 500, Columbia, MD 21044 | 10,000 | 18,258 |  |  | 28,258
Florida Counties Foundation, 100 South Monroe Street, Tallahassee, FL 32301 | 17,500 |  |  |  | 17,500
Florida Housing Coalition, Inc., 1367 East Lafayette St. Suite C, Tallahassee, FL 32301 | 16,000 | 59,040 | 54,802 | 21,120 | 150,962
Florida Planning Group, Inc., 9471 Baymeadow Road, Suite 401, Jacksonville, FL 32256 | 26,250 |  | 54,880 | 40,000 | 121,130
Fomento Inc., dba Mendez England & Associates, 5550 Friendship Blvd., Suite 230, Chevy Chase, MD 20815 | 40,000 |  |  |  | 40,000
Grassroots Leadership Development Program, Inc., 1875 North Ridge Rd., East Suite A, Lorain, OH 44055 | 35,000 | 73,098 |  |  | 108,098
HomeBase/The Center for Common Concerns, Inc., 870 Market Street, Suite 1228, San Francisco, CA 94102 |  |  |  | 181,600 | 181,600
ICF Incorporated, 9300 Lee Highway, Fairfax, VA 22031 | 299,901 |  | 1,065,317 |  | 1,365,218
Illinois Community Action Association, 101 North 16th Street, Springfield, IL 62703 |  |  |  | 109,300 | 109,300
Indiana Association for Community Economic Development, 17 West Market Street, Suite 865, Indianapolis, IN 46204 | 26,250 |  |  | 19,000 | 45,250
Iowa Housing Corporation, 100 Court Avenue, Suite 209, Des Moines, IA 50309 |  | 28,275 | 54,940 |  | 83,215
Johnson, Bassin & Shaw, Inc., 8630 Fenton Street, Suite 1200, Silver Spring, MD 20910 | 112,040 |  | 233,780 | 156,220 | 502,040
Lawton Community Development Corp., 6 SW D Avenue, Suite B, Lawton, OK 73501 | 16,000 |  |  |  | 16,000
Local Initiatives Support Corporation, 733 Third Avenue, 8th Floor, New York, NY 10017 |  | 321,235 |  |  | 321,235
Low Income Housing Development Corporation, d/b/a The Affordable Housing Group, 1300 Baxter St., Suite 269, Charlotte, NC 28204 |  | 42,336 |  |  | 42,336
Maine State Housing Authority, 353 Water St., Augusta, ME 04330 | 17,800 |  | 66,575 | 16,404 | 100,779
Maryland Center for Community Development, Inc., 1118 Light Street, Baltimore, MD 21230 | 16,000 | 45,280 | 17,480 |  | 78,760
Massachusetts Housing & Shelter Alliance, Inc., 5 Park Street, Boston, MA 02018 |  |  |  | 16,404 | 16,404
Massachusetts Nonprofit Housing Association, Inc., 18 Tremont Street, Suite 401, Boston, MA 02108 |  |  |  | 43,709 | 43,709
McClure Group, 2960 Piney Wood Drive, East Point, GA 30344 | 43,750 | 70,560 | 137,200 |  | 251,510
Metropolitan Boston Housing Partnership, 569 Columbus Ave., Boston, MA 02118 |  | 58,896 |  |  | 58,896
Michigan Coalition Against Homeless, 1210 W. Saginaw, Lansing, MI 48915 |  |  |  | 51,750 | 51,750
Michigan Housing Trust Fund, 5829 Executive Drive, Lansing, MI 48911 |  | 123,840 |  |  | 123,840
Minnesota Housing Partnership, 122 W. Franklin Ave., Suite 230, Minneapolis, MN 55404 | 24,000 | 121,275 | 102,900 | 40,000 | 288,175
Mississippi Home Corporation, P.O. Box 23369, Jackson, MS 39225 |  | 35,280 |  |  | 35,280
National Affordable Housing Training Institute, 1200 19th Street, NW, Suite 300, Washington, DC 20036 | 24,000 |  | 894,176 |  | 918,176
National Association for Equal Opportunity in Higher Education, 8701 Georgia Avenue, Suite 200, Silver Spring, MD 20910 |  | 625,378 |  |  | 625,378
National Center for Appropriate Technology, 3040 Continental Dr., P.O. Box 3838, Butte, MT 59702 |  |  | 403,484 |  | 403,484
National Congress for Community Economic Development, 1030 15th Street, NW, Suite 325, Washington, DC 20005 | 16,000 | 336,725 | 18,000 |  | 370,725
National Puerto Rican Coalition, Inc., 1700 K Street, NW, Suite 500, Washington, DC 20006 | 84,778 | 206,548 | 461,658 | 174,934 | 927,918
North Carolina Rural Economic Development Center, Inc., 4021 Carya Drive, Raleigh, NC 27610 | 17,500 | 28,224 |  |  | 45,724
Northern Ponca Housing Authority, 1405 Riverside Blvd., P.O. Box 2486, Norfolk, NE 68702 | 40,000 |  |  |  | 40,000
Northwest Regional Facilitators, 525 E. Mission Avenue, Spokane, WA 99202 |  | 135,567 | 90,155 | 50,648 | 276,370
NYS Rural Housing Coalition, Inc., 879 Madison Avenue 2nd Floor, Albany, NY 12208 | 70,182 | 108,036 | 53,702 | 12,930 | 244,850
Ohio Capital Corporation for Housing, 88 East Broad St., Suite 1800, Columbus, OH 43215 |  | 141,480 | 150,000 |  | 291,480
Ohio CDC Association, 85 East Gay Street, Suite 403, Columbus, OH 43215 | 52,650 |  |  |  | 52,650
Pathways Community Network, Inc., 44 Broad Street, NW, Suite 702, Atlanta, GA 30303 |  |  |  | 40,000 | 40,000
Rural Community Assistance Corporation, 3120 Freebroad Drive, Suite 201, West Sacramento, CA 95691 | 130,370 | 927,868 | 413,800 | 34,222 | 1,506,260
Smart, Inc., 833 Howard, 3rd Floor, New Orleans, LA 70113 |  |  | 35,000 | 20,000 | 55,000
Southeast Michigan Council of Governments, 660 Plaza Drive, Suite 1900, Detroit, MI 48226 | 40,000 |  |  |  | 40,000
Southern California Association of Governments, 818 West Seventh Street, 12th Floor, Los Angeles, CA 90001 |  |  | 123,200 |  | 123,200
Southern California Mutual Housing Association, 4229 South Central Avenue, Los Angeles, CA 90011 |  | 112,639 |  |  | 112,639
State of Alaska, P.O. Box 101020, Anchorage, AK 99510 | 40,000 | 23,640 | 45,600 | 40,000 | 149,240
State of Michigan Department of Consumer & Industry Services, 401 S. Washington Square, P.O. Box 30044, Lansing, MI 48909 |  |  | 96,320 |  | 96,320
State of North Dakota, 600 East Boulevard Avenue, 14th Floor—State Capitol, Bismarck, ND 58505 | 33,580 |  |  |  | 33,580
State of Utah, 324 South State Street, Suite 500, Salt Lake City, UT 84111 |  | 120,000 | 60,000 | 16,000 | 196,000
Statewide Housing Action Coalition, 202 South State Street, Suite 1414, Chicago, IL 60604 |  | 55,112 |  |  | 55,112
Structured Employment Economic Development, Corporation (Seedco), 915 Broadway, Suite 1703, New York, NY 10010 | 99,642 | 748,559 |  |  | 848,201
Technical Assistance Collaborative, One Center Plaza, Suite 310, Boston, MA 02108 |  |  |  | 16,404 | 16,404
Tonya, Inc., 1000 Vermont Avenue, NW Suite 500, Washington, DC 20005 | 368,779 |  | 792,698 | 317,163 | 1,478,640
Training & Development Associates, Inc., 1680 South Main Street, Suite 201, Laurinburg, NC 28352 | 88,000 | 513,970 | 344,670 | 72,980 | 1,019,620
UNITY for the Homeless, 2475 Canal Street, Suite 300, New Orleans, LA 70119 |  |  |  | 96,000 | 96,000
University of Southern MS, P.O. Box 5157, Hattiesburg, MS 39406 | 16,000 |  | 27,480 |  | 43,480
Upstate Homeless Coalition of South Carolina, 2 Bennett Street, 1st Floor, P.O. Box 17738, Greenville, SC 29606 |  |  |  | 16,000 | 16,000
Virginia Poverty Law Center, 201 W. Broad St., Suite 302, Richmond, VA 23220 |  | 52,920 |  |  | 52,920
Washington Community Development Loan Fund, 1305 Fourth Ave., Suite 906, Seattle, WA 98101 |  | 75,000 | 25,000 |  | 100,000
West Virginia Housing Development Fund, 841 Virginia Street, East, Charleston, WV 25301 |  | 161,700 | 137,200 |  | 298,900
Wisconsin Department of Administration, 101 E. Wilson St., 4th Floor P.O., Box 8944, Madison, WI 53708 |  |  | 126,000 |  | 126,000
Woonsocket Neighborhood Development Corp., 141 Olo Street, Woonsocket, RI 02895 | 20,000 |  | 20,000 | 10,971 | 50,971

[FR Doc. 00-11453 Filed 5-5-00; 8:45 am]

BILLING CODE 4210-29-P